DEPARTMENT OF HOMELAND SECURITY

Coast Guard

[Docket No. USCG-2017-0194]

Waterway Suitability Assessment for Operation of Liquefied Hazardous Gas Terminal; Port Arthur, TX

AGENCY: Coast Guard, DHS.

ACTION: Notice and request for comments.

SUMMARY: In accordance with Coast Guard regulations, Lynx Terminals LLC (Lynx Terminals) has submitted a Letter of Intent and Preliminary Waterway Suitability Assessment to the Coast Guard Captain of the Port, Port Arthur, TX (COTP) regarding the company's plans to handle and transport Liquefied Hazardous Gas (LHG) at the Port of Port Arthur docks in Port Arthur, TX. The Coast Guard is notifying the public of this proposed increase in LHG marine traffic on the Sabine-Neches Waterway and is soliciting comments relevant to the Coast Guard's preparation of a Letter of Recommendation (LOR) for issue to the federal, state or local agency with jurisdiction over the proposed facility.

DATES: Comments and related material must be received on or before September 13, 2017.

ADDRESSES: You may submit comments identified by docket number USCG-2017-0194 using the Federal eRulemaking Portal at http://www.regulations.gov. See the “Public Participation and Request for Comments” portion of the SUPPLEMENTARY INFORMATION section below for further instructions on submitting comments.

FOR FURTHER INFORMATION CONTACT: If you have questions on this notice, call or email Commander Loan T. O'Brien, U.S. Coast Guard; telephone 409-723-6564, email: Loan.T.O'Brien@uscg.mil.

SUPPLEMENTARY INFORMATION:

Public Participation and Request for Comments

We encourage you to submit comments and related material in response to this notice through the Federal eRulemaking Portal at http://www.regulations.gov. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or a final rule is published. To view comments, go to http://www.regulations.gov, type the docket number (USCG-2017-0194) in the “SEARCH” box and click “SEARCH.” Click on “Open Docket Folder” on the line associated with this notice and request for comment We accept anonymous comments. All comments received will be posted without change to http://www.regulations.gov and will include any personal information you have provided. For more about privacy and the docket, you may review a Privacy Act notice regarding the Federal Docket Management System in the March 24, 2005, issue of the Federal Register (70 FR 15086).

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting, but you may submit a request for one, using one of the methods specified under ADDRESSES. Please explain why you believe a public meeting would be beneficial. If we determine that a public meeting would aid the Captain of the Port, Port Arthur (COTP) in validating the information in the WSA and preparing the Letter of Recommendation (LOR), we will hold one at a time and place announced by a later notice in the Federal Register.

Discussion

Under 33 CFR 127.007(a), an owner or operator planning to build a new facility handling Liquefied Hazardous Gas (LHG), or an owner or operator planning new construction to expand or modify marine terminal operations in an existing facility handling LHG, where the construction, expansion, or modification would result in an increase in the size and/or frequency of LHG marine traffic on the waterway associated with the proposed facility or modification to an existing facility, must submit a Letter of Intent (LOI) to the COTP of the zone in which the facility is or will be located. Under 33 CFR 127.007(e), an owner or operator planning such new construction or expansion of an existing facility must also file or update a Waterway Suitability Assessment (WSA) that addresses the proposed increase in LHG marine traffic in the associated waterway. Lynx Terminals, located in Port Arthur, TX submitted an LOI and WSA on August 09, 2016 regarding the company's proposed plans to handle and transport LHG at the Port of Port Arthur, TX facility.

Under 33 CFR 127.009, after receiving an LOI, the COTP issues a LOR as to the suitability of the waterway for LNG or LHG marine traffic to the appropriate jurisdictional authorities. The LOR is based on a series of factors listed in 33 CFR 127.009 that relate to the physical nature of the affected waterway and issues of safety and security associated with LHG marine traffic on the affected waterway.

The purpose of this notice is to solicit public comments on the proposed increase in LHG marine traffic on the Sabine-Neches Waterway. The Coast Guard believes that input from the public may be useful to the COTP with respect to validating the information provided in Lynx Terminals' WSA and development of the LOR. Additionally, the Coast Guard intends to task the Area Maritime Security Committee, Port Arthur, TX and the Southeast Texas Waterways Advisory Council with forming a subcommittee comprised of affected port users and stakeholders. The goal of this subcommittee will be to gather information to help the COTP assess the suitability of the associated waterway for increased LHG marine traffic as it relates to navigational safety and maritime security. In addition to the other documents referenced in this notice, a brief summation of LYNX Terminals' proposal is available for viewing in the public docket for this notice.

On January 24, 2011, the Coast Guard published Navigation and Vessel Inspection Circular (NVIC) 01-2011, “Guidance Related to Waterfront Liquefied Natural Gas (LNG) Facilities”. NVIC 01-2011 provides guidance for owners and operators seeking approval to build and operate LNG facilities. While NVIC 01-2011 is specific to LNG, it provides useful process information and guidance for owners and operators seeking approval to build and operate LHG facilities as well. The Coast Guard will refer to NVIC 01-2011 for process information and guidance in evaluating Lynx Terminals' WSA. A copy of NVIC 01-2011 is available for viewing in the public docket for this notice and also on the Coast Guard's Web site at http://www.uscg.mil/hq/cg5/nvic/2010s.asp.

Dated: August 8, 2017.
Jaqueline Twomey,
Captain, U.S. Coast Guard, Captain of the Port, Port Arthur.

[FR Doc. 2017-17106 Filed 8-11-17; 8:45 am]

BILLING CODE 9110-04-P